DEPARTMENT OF COMMERCE

Submission for OMB Review; Comment Request

The Department of Commerce (DOC) has submitted to the Office of Management and Budget (OMB) for clearance the following proposal for collection of information under the provisions of the Paperwork Reduction Act (44 U.S.C. Chapter 35).

Agency: Bureau of Economic Analysis (BEA), Commerce.

Title: Benchmark Survey of Foreign Direct Investment in the United States—2002.

Form Number(s): BE-12(LF) (long form), BE-12 (SF) (short form), BE-12 Bank (bank form), and BE-12X (Claim for Not Filing a BE-12(LF), BE-12(SF), or BE-12 Bank).

Agency Approval Number: 0608-0042.

Type of Request: Reinstatement, with change, of a previously approved collection for which approval has expired.

Burden: 199,500 hours.

Number of Respondents: 17,700.

Avg Hours Per Response: 11.3 hours.

Needs and Uses: The purpose of the benchmark survey is to obtain universe data on the financial and operating characteristics of, and on positions and transactions between, U.S. affiliates and their foreign parent groups (which are defined to include all foreign parents and foreign affiliates of foreign parents). The data are needed to measure the size and economic significance of foreign direct investment in the United States, to measure changes in such investment, and to assess its impact on the U.S. economy. The data will provide benchmarks for deriving current universe estimates of direct investment from sample data collected in other BEA surveys. In particular, they will serve as benchmarks for the quarterly direct investment estimates included in the U.S. international transactions and national income and product accounts, and for annual estimates of the foreign direct investment position in the United States and of the operations of the U.S. affiliates of foreign companies.

Affected Public: U.S. businesses or other for-profit institutions.

Frequency: Quinquennial.

Respondent's Obligation: Mandatory.

Legal Authority: Title 22 U.S.C., Sections 3101-3108, as amended.

OMB Desk Officer: Paul Bugg, (202) 395-3093.

You may obtain copies of the above information collection proposal by calling or writing Diana Hynek, Departmental Paperwork Clearance Officer, Office of the Chief Information Officer, (202) 482-0266, Department of Commerce, Room 6086, 14th Street and Constitution Avenue, NW, Washington, DC 20230, or via internet at dHynek@doc.gov.

Send comments on the proposed information collection within 30 days of publication of this notice to Paul Bugg, OMB Desk Officer, Room 10201, New Executive Office Building, Washington, DC 20503.

Dated: November 21, 2002.
Madeleine Clayton,
Management Analyst, Office of the Chief Information Officer.

[FR Doc. 02-30080 Filed 11-26-02; 8:45 am]

BILLING CODE 3510-06-P